ENVIRONMENTAL PROTECTION AGENCY

[FRL-6911-6]

Protection of Stratospheric Ozone: Revocation of Refrigerant Reclaimer Certification

AGENCY: Environmental Protection Agency (EPA).

ACTION: Notice of revocation.

SUMMARY: Through this action, EPA is announcing the revocation of 15 refrigerant reclaimers previously approved to reclaim used refrigerant for sale to a new owner in accordance with the regulations promulgated at 40 CFR 82.164.

The following nine reclaimers have received written notification, dated November 21, 2000, explaining the basis for EPA's decision to revoke their certification: Advanced Recovery Systems, Inc. located in Hernando, Florida; CFC (Charles Family Corporation) Reclamation located in North Kansas City, Missouri; CFC Recovery located in Utica, New York; Colorado Reclamation located in Commerce City, Colorado; Major Diversities, Inc. located in Arvada, Colorado; Polar Pacific, Inc. located in San Diego, California; SPW Engineering located in Arnold, Maryland; Tampa Bay Trane located in Tampa, Florida; and Trane Oregon located in Tigard, Oregon.

This action also acknowledges the voluntary withdrawal of six previously certified reclaimers. Reclaimers requesting to be removed from the list of EPA-certified reclaimers include the Alliance Recovery Services, Inc. located in LaPorte, Texas; Appliance Recycling Centers of America located in Minneapolis, Minnesota; E.I. du Pont de Nemours and Company located in Wilmington, Delaware; MRI Refrigerant Reclaim located in Niles, Illinois; The Reclaim Center located in Parker, Florida; and the Trane Company-Denver Sales District located in Denver, Colorado. These reclaimers have received written notification, dated November 21, 2000, informing them of EPA's action granting their request to voluntarily withdraw their certification.

The aforementioned reclaimers have either voluntarily withdrawn their certification or have not complied with the recordkeeping and reporting requirements established for all EPA-certified reclaimers pursuant to section 608 of the Clean Air Act Amendments (the Act). In accordance with those requirements, codified at 40 CFR 82.166(h), all reclaimers must annually report, within 30 days of the end of the calendar year, the quantity of material sent to them for reclamation, the mass of refrigerant reclaimed, and the mass of waste products. EPA sent to each of the reclaimers an information collection request issued pursuant to section 114(a) of the Act, dated March 31, 2000, in which EPA requested that the reclaimers submit the required annual report. That information request indicated that failure to respond could result in revocation of their EPA certification.

In accordance with 40 CFR 82.164(g), EPA revoked the certifications of these reclaimers on November 21, 2000. Therefore, these businesses are no longer authorized to reclaim used refrigerant for sale to a new owner.

DATES: Advanced Recovery Systems, Inc.; Alliance Recovery Services, Inc.; Appliance Recycling Centers of America; CFC (Charles Family Corporation) Recovery; Colorado Reclamation; E.I. du Pont de Nemours and Company; Major Diversities, Inc; MRI Refrigerant Reclaim; Polar Pacific, Inc.; The Reclaim Center; SPW Engineering; Tampa Bay Trane; Trane Company-Denver Sales District; and Trane Oregon had their credentials as EPA-certified reclaimers revoked, effective November 21, 2000.

FOR FURTHER INFORMATION CONTACT: Julius Banks; Stratospheric Program Implementation Branch; Global Programs Division, Office of Atmospheric Programs, Office of Air and Radiation (6205-J); 1200 Pennsylvania Avenue, NW; Washington, DC 20460; (202) 564-9870. The Stratospheric Ozone Information Hotline, (800) 296-1996, can also be contacted for further information.

Dated: November 22, 2000.
Edward Callahan,
Acting Director, Office of Atmospheric Programs.

[FR Doc. 00-30914 Filed 12-4-00; 8:45 am]

BILLING CODE 6560-50-P